DEPARTMENT OF ENERGY

Federal Energy Regulatory Commission

[Docket No. CP02-057-004]

SCG Pipeline, Inc.; Notice of Compliance Filing

January 16, 2003.

Take notice that on November 19, 2002, SCG Pipeline, Inc. (SCG) tendered for filing its pro forma FERC Gas Tariff, Volume No. 1. SCG states that the filing is being made in compliance with the Commission's order entitled “Preliminary Determination on Non-Environmental Issues” issued on June 26, 2002, that preliminarily approved the issuance of the certificate authority to SCG and addressed tariff and rate aspects of SCG's application. Furthermore, on September 20, 2002, the Commission issued an “Order Issuing Certificates, Approving Abandonment and Denying Rehearing”. Ordering paragraph G of the June 26 order and ordering paragraph D of the September 20 order required SCG to file, within 60 days after the issuance of the September 20 order, rates and pro forma tariff sheets consistent with the modifications in the June 26 Order and the effective NAESB and Order No. 637 standards. This filing consists of the tariff sheets necessary to make the clarifications required by the Commission in its June 26 Order.

SCG states that a copy of the filing has been mailed to each person designated on the official service list compiled by the Secretary of the Commission in this proceeding, as well as to all customers and interested state commissions.

Any person desiring to intervene and/or to protest this filing should file a protest with the Federal Energy Regulatory Commission, 888 First Street, NE., Washington, DC 20426, in accordance with sections 385.214 and 385.211 of the Commission's rules and regulations. Protests will be considered by the Commission in determining the appropriate action to be taken, but will not serve to make protestants parties to the proceeding. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(l)(iii) and the instructions on the Commission's Web site under the “e-Filings” link.

Comment Date: January 27, 2003.

Magalie R. Salas,
Secretary.

[FR Doc. 03-1495 Filed 1-22-03; 8:45 am]

BILLING CODE 6717-01-P